DEPARTMENT OF COMMERCE

National Oceanic and Atmospheric Administration

Notice of Alaĝum Kanuux̂ Site Added to the Inventory of Areas for Possible Designation as National Marine Sanctuaries

AGENCY: Office of National Marine Sanctuaries (ONMS), National Ocean Service (NOS), National Oceanic and Atmospheric Administration (NOAA), Department of Commerce (DOC).

ACTION: Notice.

SUMMARY: On June 13, 2014, NOAA published a final rule establishing the Sanctuary Nomination Process, allowing communities to submit nominations to NOAA for consideration as new national marine sanctuaries. The rule included the final review process, national significance criteria, and management considerations that NOAA uses to evaluate new national marine sanctuary nominations for inclusion in the inventory of areas that could be considered for designation as national marine sanctuaries. The rule also states that NOAA will publish a Federal Register notice when areas have been added to the inventory of successful nominations. This notice announces that NOAA added the Alaĝum Kanuux̂ (Heart of the Ocean) sanctuary nomination to the inventory.

DATES: This notice is effective on June 8, 2022.

ADDRESSES: Kristina Kekuewa, Pacific Islands Regional Director, NOAA Office of National Marine Sanctuaries, 1845 Wasp Blvd., Honolulu, Hawaii 96818, and at https://nominate.noaa.gov/nominations/.

FOR FURTHER INFORMATION CONTACT: Kristina Kekuewa, Pacific Islands Regional Director, NOAA Office of National Marine Sanctuaries, kristina.kekuewa@noaa.gov, or at 808-725-5252.

SUPPLEMENTARY INFORMATION:

I. Background

The National Marine Sanctuaries Act (NMSA) (16 U.S.C. 1431 et seq.) authorizes the Secretary of Commerce to identify and designate as national marine sanctuaries areas of the marine environment, including the Great Lakes, which are of special national significance; to manage these areas as the National Marine Sanctuary System; and to provide for the comprehensive and coordinated conservation and management of these areas and the activities affecting them in a manner which complements existing regulatory authorities. Section 303 of the NMSA, 16 U.S.C. 1433, provides national marine sanctuary designation standards and factors required in determining whether an area qualifies for consideration as a potential national marine sanctuary, and section 304, 16 U.S.C. 1434, establishes procedures for national marine sanctuary designation and implementation. Regulations implementing the NMSA and each national marine sanctuary are codified in part 922 of title 15 of the Code of Federal Regulations.

On June 13, 2014, NOAA issued a final rule that established the Sanctuary Nomination Process and finalized the national significance criteria and management considerations it will use to review new national marine sanctuary nominations (79 FR 33851). If NOAA determines a nomination adequately meets the final criteria and considerations, it may place that nomination in an inventory of areas to consider for designation as a national marine sanctuary. NOAA also stated that it would send a letter of notification to the nominator and publish a Federal Register notice identifying areas that have been added to the inventory of successful nominations. This notice documents that NOAA is adding the Alaĝum Kanuux̂ (Heart of the Ocean) nomination to the inventory.

NOAA is not designating any new national marine sanctuaries with this action. Any proposed designations resulting from the nomination process would be conducted by NOAA as a separate process under the NMSA, Administrative Procedure Act (5 U.S.C. subchapter II), National Environmental Policy Act (42 U.S.C. 4321 et seq.), and other applicable authorities.

II. Alaĝum Kanuux̂ Sanctuary Nomination Added to the Inventory

The Aleut Community of St. Paul Island (ACSPI) Tribal Government, a federally recognized tribe,¹ submitted an initial nomination for Alaĝum Kanuux̂ (Heart of the Ocean) for consideration as a national marine sanctuary on December 17, 2021. The original nomination identified an estimated 52,920 mi² (39,961 nm²) area in the Bering Sea encompassed by a 100 nm circular boundary around the two inhabited islands of St. Paul and St. George off the coast of Alaska for possible sanctuary designation. The nominated area excluded a quarter-mile buffer zone around the St. George and St. Paul Harbors and all shoreside and submerged industrial facilities on both islands. After further communication with the community of St. George Island, the ACSPI Tribal Government submitted a revised nomination on April 14, 2022, that removed the initial proposed boundaries and any implied commitments of St. George Island (i.e., City of St. George and the St. George Traditional Council) to encourage future community input on the ideal boundaries and co-management arrangements during any potential sanctuary designation process. In the revised nomination, the nominators proposed utilizing Indigenous knowledge and empirical science to assess numerous biological, ecological, and physical features of the Pribilof Islands marine ecosystem (e.g., oceanographic features, foraging and migratory dynamics of seabirds and marine mammals, and population dynamics) and working with co-managing partners and advisors to determine appropriate sanctuary boundaries should ONMS move forward with sanctuary designation. The revised nomination proposes excluding buffer zones around harbors and all shoreside and submerged industrial facilities from any future proposed boundary.

¹ The Department of the Interior includes Saint Paul Island and Saint George Island on the list of Federally Recognized Alaska Native Villages/Tribes Within the State of Alaska. Indian Entities Recognized by and Eligible to Receive Services from the United States Bureau of Indian Affairs, 87 FR 4636, 4641 (January 28, 2022). The Department of the Interior list further notes, “Pribilof Islands Aleut Communities of St. Paul & St. George Islands (Saint George Island and Saint Paul Island)—is not included in the official count of 574 federally recognized Tribes but is recognized as an entity authorized to act on behalf of Saint George Island and Saint Paul Island).” Id.

The ACSPI Tribal Government nominated the area for consideration as a national marine sanctuary to protect nationally significant biological and cultural resources in the area. The area's ecosystem supports globally significant populations of marine mammals, seabirds, and fish, including various ecological and cultural keystone species such as northern fur seals and Steller sea lions. The oceanographic features of the area results in a highly productive zone that supports representative biogeographic assemblages of biodiversity and maintenance of critical habitat for foraging and for important life stages of many threatened and endangered species, as well as species considered to be keystone, foundation, or focal.

The nomination also describes the importance of the Pribilof Islands and surrounding waters to the history and heritage of the Unangan (Aleut) communities. In addition to being ecologically significant, the biological resources in the nominated area are vital for the subsistence of the Unangan people and are integral to their belief systems and identities. The ACSPI Tribal Government's nomination proposes a management framework for the area that would include a formal co-management agreement between State, Federal, and Tribal governments, as well as emphasize Indigenous-led marine stewardship. More information can be found in the nomination at https://nominate.noaa.gov/nominations/.

Based on information included in the nomination, including the comment letters submitted with the nomination, as well as internal analysis of relevant information about the Alaĝum Kanuux̂ proposal, NOAA has determined that the nomination is responsive to the national significance criteria and management considerations and added it to the inventory of successful nominations. This notice serves to inform the public of this decision to add the Alaĝum Kanuux̂ nomination to the inventory.

Prior to moving forward with a proposed sanctuary designation, ONMS would work with the ACSPI Tribal Government, the St. George Traditional Council, the City of St. George, Alaska Native corporations, the State of Alaska, Federal agencies, and other organizations to further consider the Alaĝum Kanuux̂ nomination. In carrying out further coordination with respect to any proposed designation, as applicable, NOAA would fulfill its responsibilities under Executive Order 13175, “Consultation and Coordination with Indian Tribal Governments,” and NOAA implementing policy and procedures. Executive Order 13175 requires Federal agencies to establish procedures for meaningful consultation and coordination with Tribal officials in the development of Federal policies that have Tribal implications. Under these policies and procedures, NOAA offers affected federally recognized Tribes government-to-government consultation at the earliest practicable time it can reasonably anticipate that a proposed policy or initiative may have tribal implications.

III. Classification

A. National Environmental Policy Act (NEPA)

NOAA has concluded that this action will not have a significant effect, individually or cumulatively, on the human environment, because this action is a notice of an administrative and legal nature and does not designate any new national marine sanctuaries. NOAA has further determined that this action is not connected to a larger action, and does not involve extraordinary circumstances precluding the use of a categorical exclusion. Therefore, this action is categorically excluded from the requirement to prepare an environmental assessment or environmental impact statement, in accordance with NOAA Administrative Order 216-6A Environmental Review Procedures, and the NOAA NEPA Companion Manual. As defined in the NOAA NEPA Companion Manual, Appendix E, categorical exclusion category G7, the proposed action is a notice of administrative and legal nature and for which any environmental effects are too broad and speculative to lend themselves to meaningful analysis at this time and will be subject later to the NEPA process, as applicable. Should NOAA decide to propose the designation of a national marine sanctuary, each individual national marine sanctuary designation process will be subject to case-by-case analysis, as required under NEPA and as outlined in section 304(a)(2)(A) of the NMSA.

B. Paperwork Reduction Act

Notwithstanding any other provisions of the law, no person is required to respond to, nor shall any person be subject to a penalty for failure to comply with a collection of information subject to the requirements of the Paperwork Reduction Act (PRA), 44 U.S.C. 3501 et seq., unless that collection of information displays a currently valid Office of Management and Budget (OMB) control number. Nominations for national marine sanctuaries discussed in this notice involve a collection-of-information requirement subject to the requirements of the PRA. OMB has approved this collection-of-information requirement under OMB control number 0648-0682.

Authority: 16 U.S.C. 1431 et seq.

John Armor,
Director, Office of National Marine Sanctuaries, National Ocean Service, National Oceanic and Atmospheric Administration.

[FR Doc. 2022-11954 Filed 6-7-22; 8:45 am]

BILLING CODE 3510-NK-P